DEPARTMENT OF VETERANS AFFAIRS

Veterans' Rural Health Advisory Committee, Notice of Meeting

The Department of Veterans Affairs (VA) gives notice under the Federal Advisory Committee Act that the Veterans Rural Health Advisory Committee will meet at Raymond G. Murphy VA Medical Center, 1501 San Pedro Drive SE, Albuquerque, New Mexico 87108, on April 15-16, 2020. Both meeting sessions will begin at 8:15 a.m. (EST) each day and adjourn at 5:45 p.m. (EST). The meetings are open to the public.

The purpose of the Committee is to advise the Secretary of VA on rural health care issues affecting Veterans. The Committee examines programs and policies that impact the delivery of VA rural health care to Veterans and discusses ways to improve and enhance VA access to rural health care services for Veterans. The agenda will include updates from Department leadership, the Executive Director of the Office of the VA Office of Rural Health, and the Committee Chairman, as well as presentations on general rural health care access.

Public comments will be received at 5:00 p.m. on April 16, 2020. Interested parties should contact Ms. Judy Bowie, by email at VRHAC@va.gov, or by mail at 810 Vermont Avenue NW, (10P1R), Washington, DC 20420. Individuals wishing to speak are invited to submit a 1-2 page summary of their comment for inclusion in the official meeting record. Any member of the public seeking additional information should contact Ms. Bowie at the phone number or email address noted above.

Dated: February 13, 2020.
LaTonya L. Small,
Federal Advisory Committee Management Officer.

[FR Doc. 2020-03274 Filed 2-19-20; 8:45 am]

BILLING CODE P